DEPARTMENT OF ENERGY

Federal Energy Regulatory Commission

Notice of Joint Application To Amend License and Soliciting Comments, Motions To Intervene, and Protests

October 30, 2002.

Take notice that the following hydroelectric application has been filed with the Commission and is available for public inspection:

a. Type of Application: Joint Application to Amend License.

b. Project No.: 5-072.

c. Date Filed: October 15, 2002.

d. Applicant: PPL Montana, LLC (PPLM) and the Confederated Salish and Kootenai Tribes of the Flathead Nation (Tribes).

e. Name of Project: Kerr Hydroelectric Project.

f. Location: On the Flathead River in Lake and Flathead Counties, Montana.

g. Filed Pursuant to: 16 U.S.C. 799.

h. Applicant Contacts: David R. Poe, LeBoeuf, Lamb, Greene & MacRae, L.L.P., 1875 Connecticut Avenue, NW., Washington, DC 20009, (202) 986-8039 and Joe Hovenkotter, Tribal Legal Department, Flathead Reservation, 51383 Highway 93 North, Pablo, Montana 59855, (406) 675-2700, ext. 1169.

i. FERC Contact: Any questions on this notice should be addressed to Robert H. Grieve, Robert.Grieve@ferc.gov, (202) 502-8752.

j. Deadline for filing comments, motions to intervene and protests: November 29, 2002.

All documents (original and seven copies) should be filed with: Magalie R. Salas, Secretary, Federal Energy Regulatory Commission, 888 First Street, NE., Washington, DC 20426. Comments, protests, and interventions may be filed electronically via the Internet in lieu of paper, see 18 CFR 385.2002(a)(1)(iii) and instructions on the Commission's web site under the “e-filing” link. The Commission strongly encourages electronic filings. Please include the project number (P-5-072) on any comments or motions filed.

The Commission's rules of Practice and Procedure require all intervenors filing documents with the Commission to serve a copy of that document on each person in the official service list for the project. Further, if an intervenor files comments or documents with the Commission relating to the merits of an issue that may affect the responsibilities of a particular resource agency, they must also serve a copy of the document on that resource agency.

k. Description of Application: Applicants request to amend the Kerr Project license in order to resolve the respective obligations of PPLM and the Tribes for performance of certain fish and wildlife mitigation measures that currently appear in several numbered articles in the project license. The articles at issue were originally submitted by the Department of the Interior pursuant to its authority under Section 4(e) of the Federal Power Act, 16 U.S.C. 797(e), and thereafter adopted by the Commission in its orders of June 25, 1997, October 30, 1998, and December 14, 2000. Applicants seek a similar resolution of obligations under a license article that was included in the project license in the December 14, 2000 order in response to a biological opinion prepared by the U.S. Fish and Wildlife Service pursuant to the Endangered Species Act.

l. Locations of the Application: Copies of this filing are available for review at the Commission in the Public Reference Room or may be viewed on the Commission's web site at http:www.ferc.gov using the “FERRIS” link. Enter the docket number, excluding the last three digits in the docket number field, to access the document. For assistance, call toll-free 1-866-208-3676 or e-mail FERCONLINESUPPORT@FERC.GOV. For TTY, call (202) 502-8659. Copies are also available for inspection and reproduction at the addresses in item h. above.

m. Individuals desiring to be included on the Commission's mailing list should so indicate by writing to the Secretary of the Commission.

n. Protests or Motions to Intervene-Anyone may submit a protest or a motion to intervene in accordance with the requirements of Rules of Practice and Procedure, 18 CFR 385.210. 385.211, and 385.2114. In determining the appropriate action to take, the Commission will consider all protests filed, but only those who file a motion to intervene in accordance with the Commission's Rules may become a party to the proceeding. Any protests or motions to intervene must be received on or before the specified deadline date for the particular application.

o. Filing and Service of Responsive Documents—Any filings must bear in all capital letters the title “COMMENTS”, “RECOMMENDATION FOR TERMS AND CONDITIONS”, “PROTEST”, or “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

p. Agency Comments—Federal, State, and local agencies are invited to file comments on the described application. A copy of the application may be obtained by agencies directly from the Applicant. If an agency does not file comments within the time specified for filing comments, it will be presumed to have no comments. One copy of an agency's comments must also be sent to the Applicant's representatives.

Linwood A. Watson, Jr.,
Deputy Secretary.

[FR Doc. 02-28171 Filed 11-4-02; 8:45 am]

BILLING CODE 6717-01-P